FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than April 30, 2002.

A. Federal Reserve Bank of Dallas (W. Arthur Tribble, Vice President) 2200 North Pearl Street, Dallas, Texas 75201-2272:

1. Mr. Gilbert Garza, San Benito, Texas; to increase control of First San Benito Bancshares Corporation, San Benito, Texas, its intermediate tier bank holding company, First Community Holdings, Inc., Carson City, Nevada, and its subsidiary bank, First National Bank, San Benito, Texas.

Board of Governors of the Federal Reserve System, April 10, 2002.
Robert deV. Frierson,
Deputy Secretary of the Board.

[FR Doc. 02-9151 Filed 4-15-02; 8:45 am]

BILLING CODE 6210-01-S